DEPARTMENT OF HEALTH AND HUMAN SERVICES

Food and Drug Administration

[Docket No. 2004N-0287]

21 CFR Part 5

Change of Names and Addresses; Technical Amendment; Correction

AGENCY: Food and Drug Administration, HHS.

ACTION: Final rule; technical amendment; correction.

SUMMARY: The Food and Drug Administration (FDA) is correcting a document that amended its regulations to reflect name and address changes for the Office of Compliance, Center for Drug Evaluation and Research (CDER). The document was published in the Federal Register of August 11, 2004 (69 FR 48774), with incorrect information regarding the mail codes for the Office of Compliance, CDER. This action is editorial in nature and is intended to provide accuracy and clarity to the agency's regulations.

DATES: This rule is effective August 11, 2004

.

FOR FURTHER INFORMATION CONTACT: Joyce A Strong, Office of Policy (HF-27), Food and Drug Administration, 5600 Fishers Lane, Rockville, MD 20857, 301-827-7010.

SUPPLEMENTARY INFORMATION: FDA is correcting a document that amended its regulations in 21 CFR part 5 to correct certain mail codes in the Office of Compliance, CDER.

List of Subjects in 21 CFR Part 5

Authority delegations (Government agencies), Imports, Organization and functions (Government agencies).

Therefore, under the Federal Food, Drug, and Cosmetic Act and under authority delegated to the Commissioner of Food and Drugs, 21 CFR part 5 is amended as follows:

PART 5—ORGANIZATION

1. The authority citation for 21 CFR part 5 continues to read as follows:

Authority: 5 U.S.C. 552; 21 U.S.C. 301-397.

2. Section 5.1100 is amended under the heading “CENTER FOR DRUG EVALUATION AND RESEARCH.¹” by revising the entries under the subheading “Office of Compliance.¹” to read as follows:

§5.1100 Headquarters.

CENTER FOR DRUG EVALUATION AND RESEARCH.¹

Office of Compliance.¹

Division of New Drugs and Labeling Compliance (HFD-310).

Division of Manufacturing and Product Quality (HFD-320).

Division of Compliance Risk Management and Surveillance (HFD-330).

Dated: August 20, 2004.
Jeffrey Shuren,
Assistant Commissioner for Policy.

[FR Doc. 04-19598 Filed 8-26-04; 8:45 am]

BILLING CODE 4160-01-S